DEPARTMENT OF ENERGY

Federal Energy Regulatory Commission

[Docket No. EG02-92-000, et al.]

PSEG Poland Distribution B.V., et al.; Electric Rate and Corporate Regulation Filings

February 19, 2002.

Take notice that the following filings have been made with the Commission. Any comments should be submitted in accordance with Standard Paragraph E at the end of this notice.

1. PSEG Poland Distribution B.V.

[Docket No. EG02-92-000]

Take notice that on February 13, 2002, PSEG Poland Distribution B.V. (PSEG Poland) with its principal office at Weena 340, 3012 NJ Rotterdam, The Netherlands (mailing address: Postbus 21850, 3001 AW Rotterdam, The Netherlands), filed with the Federal Energy Regulatory Commission (Commission), an application for determination of exempt wholesale generator status pursuant to part 365 of the Commission's regulations.

PSEG Poland is a company organized under the laws of The Netherlands. PSEG Poland states that it will be engaged, directly or indirectly through an affiliate as defined in section 2(a)(11)(B) of the Public Utility Holding Company Act of 1935, exclusively in owning, or both owning and operating an electric generating facility consisting of an approximately 590 MWe and 618 MWt coal-fired electrical and thermal plant, located in Krakow, Poland, selling electric energy at wholesale and engaging in project development activities with respect thereto.

Comment Date: March 12, 2002.

2. Crete Energy Venture, LLC

[Docket No. EG02-93-000]

Take notice that on February 14, 2002, Crete Energy Venture, LLC, c/o DTE Energy Services, Inc., 414 S. Main Street, Suite 600, Ann Arbor, Michigan 48104 filed with the Federal Energy Regulatory Commission (Commission), an application for determination of exempt wholesale generator status pursuant to section 32(a)(1) of the Public Utility Holding Company Act of 1935, as amended.

The applicant states that it is a limited liability company that will be engaged directly or indirectly and exclusively in the business of developing and ultimately owning and/or operating a 315 megawatt gas-fired, simple cycle electric generating facility located in Crete, Illinois and selling electric energy exclusively at wholesale.

Copies of the Application have been served upon the Securities and Exchange Commission, the Louisiana Public Service Commission, the Mississippi Public Service Commission, the Arkansas Public Service Commission, the City Council of New Orleans, the Public Utility Commission of Texas, the Michigan Public Service Commission, and the Illinois Commerce Commission.

Comment Date: March 12, 2002.

3. Duke Energy Sandersville, LLC

[Docket No. EG02-94-000]

Take notice that on February 14, 2002, Duke Energy Sandersville, LLC (Duke Sandersville) filed an application with the Federal Energy Regulatory Commission (the Commission) for determination of exempt wholesale generator status pursuant to section 32 of the Public Utility Holding Company Act of 1935, as amended, and part 365 of the Commission's regulations.

Duke Sandersville states that it is a Delaware limited liability company that will be engaged directly and exclusively in the business of operating all or part of one or more eligible facilities to be located in Washington County, Georgia. The eligible facilities will consist of an approximately 640 MW natural gas-fired, simple cycle electric generation plant and related interconnection facilities. The output of the eligible facilities will be sold at wholesale.

Comment Date: March 12, 2002.

4. Duke Energy Washington, LLC

[Docket No. EG02-95-000]

Take notice that on February 14, 2002, Duke Energy Washington, LLC (Duke Washington) filed an application with the Federal Energy Regulatory Commission (the Commission) for determination of exempt wholesale generator status pursuant to section 32 of the Public Utility Holding Company Act of 1935, as amended, and part 365 of the Commission's regulations.

Duke Washington states that it is a Delaware limited liability company that will be engaged directly and exclusively in the business of operating all or part of one or more eligible facilities to be located in Washington County, Ohio. The eligible facilities will consist of an approximately 620 MW natural gas-fired, combined cycle electric generation plant and related interconnection facilities. The output of the eligible facilities will be sold at wholesale.

Comment Date: March 12, 2002.

5. PEI Power Corporation

[Docket No. ER98-2270-002]

Take notice that on January 23, 2002, PEI Power Corporation tendered for filing with the Federal Energy Regulatory Commission (Commission), a Triennial Revised Market Analysis.

Comment Date: March 12, 2002.

6. Gilroy Energy Center, LLC; King City Energy Center, LLC

[Docket No. ER01-2688-003, Docket No. ER01-2689-003]

Take notice that on February 13, 2002, Gilroy Energy Center, LLC and King City Energy Center, LLC (the Applicants), resubmitted for filing with the Federal Energy Regulatory Commission (Commission) all of their tariff sheets to reflect the correct effective dates in compliance with the Commission order issued in these dockets on December 20, 2001.

Comment Date: March 6, 2002.

7. Arizona Independent Scheduling Administrator Association

[Docket No. ER02-348-001]

Take notice that on February 13, 2002, Arizona Independent Scheduling Administrator Association submitted supplemental information regarding its proposed revision to its Protocols Manual to extend the commitment of the Standard Offer Scheduling Coordinators to a mechanism whereby Standard Offer Scheduling Coordinators exchange an amount, in MW, of Allocated Retail Network Transmission to Scheduling Coordinators serving competitive retail access customers.

Comment Date: March 6, 2002.

8. Duke Energy Corporation

[Docket No. ER02-710-001]

Take notice that on February 13, 2002, Duke Energy Corporation, on behalf of Duke Electric Transmission, filed an amendment to its filing in this docket.

Comment Date: March 6, 2002.

9. UtiliCorp United Inc.

[Docket No. ER02-765-001]

Take notice that on February 13, 2002, UtiliCorp United Inc. (UtiliCorp), filed a supplement to Service Agreement No. 109, which it filed on January 14, 2002 in this docket.

Comment Date: March 6, 2002.

10. West Texas Utilities Company

[Docket No. ER02-1001-000]

Take notice that on February 12, 2002, West Texas Utilities Company (WTU) tendered for filing with the Federal Energy Regulatory Commission (Commission), a notice of cancellation of WTU Rate Schedule No. 40 (Agreement Providing for Partial Requirements Service by WTU to the City of Coleman, Texas).

Comment Date: March 5, 2002.

11. New England Power Pool

[Docket No. ER02-1003-000]

Take notice that on February 12, 2002, the New England Power Pool (NEPOOL) Participants Committee submitted the Eighty-Second Agreement Amending New England Power Pool Agreement, which proposes changes to Schedule 16 of the NEPOOL Open Access Transmission Tariff in connection with compensation for distribution companies that provide black start service to NEPOOL.

NEPOOL respectfully requests that the effective date be April 1, 2002.

The NEPOOL Participants Committee states that copies of these materials were sent to the NEPOOL Participants, Non-Participant Transmission Customers and the New England state governors and regulatory commissions.

Comment Date: March 5, 2002.

12. New England Power Pool

[Docket No. ER02-1004-000]

Take notice that on February 12, 2002, the New England Power Pool (NEPOOL) Participants Committee submitted a filing requesting acceptance of proposed changes to Market Rule & Procedure 4 and Appendix 4-M that amend the procedures for submitting Participants' External Transactions for Installed Capability across the New York-NEPOOL interface.

NEPOOL requests the Commission to allow these proposed changes to become effective on May 1, 2002.

The NEPOOL Participants Committee states that copies of these materials were sent to the New England state governors and regulatory commissions and the Participants in the New England Power Pool.

Comment Date: March 5, 2002.

13. Michigan Electric Transmission Company

[Docket No. ER02-1005-000]

Take notice that on February 12, 2002, Michigan Electric Transmission Company (METC) tendered for filing with the Federal Energy Regulatory Commission (Commission), as transferee of Consumers Energy Company (Consumers), also known as Consumers Power Company, Service Agreement No. 33 under METC Electric Tariff No. 1, a Facilities Agreement with Wolverine Power Supply Cooperative, Inc. (Wolverine), dated January 31, 1996, as amended June 4, 1996. The facilities covered under the Agreement provide an interconnection of 138 kV facilities owned by the parties thereunder (Oden Interconnection Facilities). The Agreement (a) describes the Oden Interconnection Facilities and their anticipated affect on the facilities of the respective parties, (b) establishes the ownership interests of the parties in the Oden Interconnect Facilities, and (c) sets forth the respective rights and obligations of the parties with respect thereto.

METC has requested that its aforementioned Service Agreement be allowed to become effective April 1, 2001.

Copies of the filing were served upon Wolverine and the Michigan Public Service Commission.

Comment Date: March 5, 2002.

14. Allegheny Energy Service Corporation, on Behalf of Allegheny Energy Supply Company LLC

[Docket No. ER02-1006-000]

Take notice that on February 12, 2002, Allegheny Energy Service Corporation on behalf of Allegheny Energy Supply Company, LLC (Allegheny Energy Supply Company) filed First Revised Service Agreement No. 114 to complete the filing requirement for one (1) new Customer of the Market Rate Tariff under which Allegheny Energy Supply offers generation services. Allegheny Energy Supply maintains the effective date of Service Agreement No. 114 of March 16, 2001 for service to Entergy-Koch Trading, LP.

Copies of the filing have been provided to all parties of record.

Comment Date: March 5, 2002.

15. Allegheny Energy Service Corporation, on Behalf of Allegheny Energy Supply Company LLC

[Docket No. ER02-1007-000]

Take notice that on February 12, 2002, Allegheny Energy Service Corporation on behalf of Allegheny Energy Supply Company, LLC (Allegheny Energy Supply Company) filed First Revised Service Agreement No. 11 to complete the filing requirement for one (1) new Customer of the Market Rate Tariff under which Allegheny Energy Supply offers generation services.

Allegheny Energy Supply maintains the effective date of Service Agreement No. 11 of December 2, 1999 for service to TXU Energy Trading Company LP.

Copies of the filing have been provided to all parties of record.

Comment Date: March 5, 2002.

16. Allegheny Energy Service Corporation, on Behalf of Monongahela Power Company; The Potomac Edison Company, and West Penn Power Company (Allegheny Power)

[Docket No. ER02-1008-000]

Take notice that on February 12, 2002, Allegheny Energy Service Corporation on behalf of Monongahela Power Company, The Potomac Edison Company and West Penn Power Company (Allegheny Power), filed Service Agreement Nos. 373 and 374 to add Dominion Energy Marketing, Inc. to Allegheny Power's Open Access Transmission Service Tariff which has been accepted for filing by the Federal Energy Regulatory Commission in Docket No. ER96-58-000.

The proposed effective date under the Service Agreements is February 11, 2002.

Copies of the filing have been provided to the Customer.

Comment Date: March 5, 2002.

17. North Atlantic Energy Corporation

[Docket No. ER02-1009-000]

Take notice that on February 12, 2002, North Atlantic Energy Corporation (North Atlantic) filed proposed changes to charges for decommissioning Seabrook Unit 1 to be collected under North Atlantic Federal Energy Regulatory Commission Rate Schedules Nos. 1 and 3. These charges are recovered under a formula rate that is not changed by the filing. The proposed adjustment in charges is necessitated by a ruling of the New Hampshire Nuclear Decommissioning Finance Committee adjusting the funding requirements for decommissioning Seabrook Unit 1.

North Atlantic has requested waiver of the notice and filing requirements to accept retroactive effective date of January 12, 2001.

North Atlantic states that copies of this filing were served upon North Atlantic's jurisdictional customer and the New Hampshire Public Utilities Commission.

Comment Date: March 5, 2002.

18. GNE, LLC

[Docket No. ER02-1010-000]

Take notice that on February 13, 2002, GNE, LLC (GNE) tendered its long-term Power Purchase and Sale Agreement (EEI-NEM Model) between Maclaren Energy Inc. (Maclaren) and GNE. The Agreement is designated as Service Agreement No. 1 under GNE's FERC Electric Tariff, Original Volume No. 1. Service commenced under the Agreement on February 1, 2002 pursuant to negotiated rates, terms and conditions.

Comment Date: March 6, 2002.

19. Florida Power Corporation

[Docket No. ER02-1011-000]

Take notice that on February 13, 2002, Florida Power Corporation (FPC) filed a Service Agreement with Calpine Energy Services, L.P. under FPC's Short-Form Market-Based Wholesale Power Sales Tariff (SM-1), FERC Electric Tariff No. 10.

FPC is requesting an effective date of January 18, 2002, for this Agreement.

A copy of this filing was served upon the Florida Public Service Commission and the North Carolina Utilities Commission.

Comment Date: March 6, 2002.

20. Indigo Generation LLC, Larkspur Energy LLC, and Wildflower Energy LP (Collectively the Wildflower Entities)

[Docket No. ER02-1012-000]

Take notice that on February 13, 2002, Indigo Generation LLC, Larkspur Energy LLC and Wildflower Energy LP (collectively the Wildflower Entities) rendered for filing an amendment to an agreement pursuant to which the Wildflower Entities will sell capacity, energy and ancillary services at market-based rates according to their FERC Electric Tariff, Original Volume No. 1 to their affiliate Coral Energy Management, LLC.

Comment Date: March 6, 2002.

21. Delmarva Power and Light Company

[Docket No. ER02-1013-000]

Take notice that on February 13, 2002, Delmarva Power and Light Company (Delmarva) filed proposed tariff sheets for the PJM Interconnection, LLC's Open Access Transmission Tariff (PJM Tariff) to accommodate the Commonwealth of Virginia's retail access program. The proposed tariff sheets describe the procedures for determining the peak load contributions and hourly load obligations for Delmarva's retail customers located in the Delmarva zone. This information is used in the determination of capacity, transmission, and hourly energy obligations.

Copies of the filing have been served on all the members of the PJM Interconnection, LLC and the Virginia State Corporation Commission.

Comment Date: March 6, 2002.

22. PPL EnergyPlus, LLC

[Docket No. ER02-1014-000]

Take notice that on February 13, 2002, PPL EnergyPlus, LLC (PPL EnergyPlus) filed notice of termination of the Service Agreement between it and UGI Utilities, Inc. designated as Service Agreement No. 123 under PPL EnergyPlus Rate Schedule FERC No. 1.

PPL EnergyPlus requests that the termination be effective on April 15, 2002.

Notice of the termination has been served upon UGI Utilities, Inc.

Comment Date: March 6, 2002.

23. Illinois Power Company

[Docket No. ER02-1015-000]

Take notice that on February 13, 2002, Illinois Power Company (Illinois Power), 500 South 27th Street, Decatur, Illinois 65251-2200, filed with the Commission a Fourth Revised Network Integration Transmission Service Agreement entered into by Illinois Power and Dynegy Power Marketing, Inc., pursuant to Illinois Power's Open Access Transmission Tariff.

Illinois Power requests an effective date of February 2, 2002, for the Agreement and accordingly seeks a waiver of the Commission's notice requirement.

Illinois Power states that a copy of this filing has been sent to the customer.

Comment Date: March 6, 2002.

24. MEP Flora Power, LLC

[Docket No. ER02-1016-000]

Take notice that on February 13, 2002, MEP Flora Power, LLC (MEPFP), an indirect wholly owned subsidiary of Aquila, Inc., tendered for filing a rate schedule to engage in sales at market-based rates. MEPFP included in its filing a proposed code of conduct.

MEPFP requests that the rate schedule become effective April 1, 2002.

Comment Date: March 6, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-4483 Filed 2-25-02; 8:45 am]

BILLING CODE 6717-01-P